DEPARTMENT OF STATE

[Public Notice: 10707]

U.S. Department of State Advisory Committee on Private International Law (ACPIL): Public Meeting on Electronic Commerce—Identity Management

The Office of the Assistant Legal Adviser for Private International Law, Department of State, gives notice of a public meeting to discuss work by the United Nations Commission on International Trade Law (UNCITRAL) in the area of identity management. The public meeting will take place on Monday, April 2, 2019, from 9:30 a.m. until 12 p.m. EDT. This is not a meeting of the full Advisory Committee.

At its 2018 annual meeting, the Commission decided that UNCITRAL's Working Group IV should conduct work on legal issues relating to identity management and trust services, with a view to preparing a text aimed at facilitating cross-border recognition of identity management and trust services. Neither the Commission nor the Working Group have taken a decision concerning the form of any instrument to be developed. To facilitate the work of the Working Group, the UNCITRAL Secretariat has drafted “Draft Provisions on the Cross-border Recognition of [Identity Management] and Trust Services” (UN Doc. A/CN.9/WG.IV/WP.157), available at https://undocs.org/en/A/CN.9/WG.IV/WP.157, and “Explanatory Remarks on the Draft Provisions on the Cross-border Recognition of Identity Management and Trust Services” (UN Doc. A/CN.9/WG.IV/WP.158), available at https://undocs.org/en/A/CN.9/WG.IV/WP.158.

The purpose of the public meeting is to obtain the views of concerned stakeholders on the issues presented in the Draft Provisions as well as the accompanying Explanatory Remarks. Participants in the public meeting should read the Secretariat's notes in advance of the meeting and should be prepared to discuss the issues presented within the notes. Those who cannot attend but wish to comment are welcome to do so by email to Michael Coffee at coffeems@state.gov.

Time and Place: The meeting will take place on April 2, 2019, from 9:30 a.m. until 12 p.m. EDT in Room 356, South Building, State Department Annex 4A, Washington, DC 20037. Participants should plan to arrive at the Navy Hill gate on the west side of 23rd Street NW, at the intersection of 23rd Street NW and D Street NW by 9:00 a.m. for visitor screening. If you are unable to attend the public meeting and would like to participate from a remote location, teleconferencing will be available.

Public Participation: This meeting is open to the public, subject to the capacity of the meeting room. Access to the building is strictly controlled. For pre-clearance purposes, those planning to attend should email pil@state.gov providing full name, date of birth, citizenship, driver's license or passport number, and email address. This information will greatly facilitate entry into the building. It is critical that participants provide such notification to the Department in advance of the meeting as the meeting room and building might change should extra space be needed to accommodate in-person participation. A member of the public needing reasonable accommodation should email pil@state.gov not later than March 25, 2019. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities.

The data will be entered into the Visitor Access Control System (VACS-D) database. Please see the Security Records System of Records Notice (State-36) at https://foia.state.gov/_docs/SORN/State-36.pdf for additional information.

Michael S. Coffee,
Attorney-Adviser, Office of Private International Law, Office of the Legal Adviser, U.S. Department of State.

[FR Doc. 2019-04718 Filed 3-13-19; 8:45 am]

BILLING CODE 4710-08-P